DEPARTMENT OF AGRICULTURE

Agricultural Marketing Service

7 CFR Part 981

[Doc. No. AMS-SC-19-0041; SC19-981-3 CR]

Almonds Grown in California; Continuance Referendum

AGENCY: Agricultural Marketing Service, USDA.

ACTION: Referendum order.

SUMMARY: This document directs that a referendum be conducted among eligible almond growers to determine whether they favor continuance of the marketing order regulating the handling of almonds grown in California.

DATES: The referendum will be conducted from August 5 through August 16, 2019. Only current growers of almonds within the production area that grew almonds during the period August 1, 2018, through July 31, 2019, are eligible to vote in this referendum.

ADDRESSES: Copies of the marketing order may be obtained from the California Marketing Field Office, Marketing Order and Agreement Division, Specialty Crops Program, AMS, USDA, 2202 Monterey Street, Suite 102B, Fresno, California 93721-3129; Telephone: (559) 538-1670; from the Office of the Docket Clerk, Marketing Order and Agreement Division, Specialty Crops Program, AMS, USDA, 1400 Independence Avenue SW, STOP 0237, Washington, DC 20250-0237; or on the internet: http://www.regulations.gov.

FOR FURTHER INFORMATION CONTACT: Peter Sommers, Marketing Specialist, or Terry Vawter, Regional Director, California Marketing Field Office, Marketing Order and Agreement Division, Specialty Crops Program, AMS, USDA, 2202 Monterey Street, Suite 102B, Fresno, CA 93721-3129; Telephone: (559) 538-1670, Fax: (559) 487-5906, or Email: Peterr.Sommers@usda.gov or Terry.Vawter@usda.gov.

SUPPLEMENTARY INFORMATION: Pursuant to Marketing Agreement and Order No. 981, as amended (7 CFR part 981), hereinafter referred to as the “Order,” and the applicable provisions of the Agricultural Marketing Agreement Act of 1937, as amended (7 U.S.C. 601-674), hereinafter referred to as the “Act,” it is hereby directed that a referendum be conducted to ascertain whether continuance of the Order is favored by growers. The referendum will be conducted from August 5 through August 16, 2019, among almond growers in the production area. Only current almond growers that were also engaged in the production of almonds during the period of August 1, 2018, through July 31, 2019, may participate in the continuance referendum.

USDA has determined that continuance referenda are an effective means for determining whether growers favor the continuation of marketing order programs. USDA would consider termination of the Order if less than two-thirds of the growers voting in the referendum and growers of less than two-thirds of the volume of almonds represented in the referendum favor continuance of the program. In evaluating the merits of continuance versus termination, USDA will not exclusively consider the results of the continuance referendum. USDA will also consider all other relevant information regarding operation of the Order and relative benefits and disadvantages to growers, handlers, and consumers to determine whether continuing the Order would tend to effectuate the declared policy of the Act.

In accordance with the Paperwork Reduction Act of 1995 (44 U.S.C. Chapter 35), the ballot materials used in the referendum have been submitted to and approved by the Office of Management and Budget (OMB) and have been assigned OMB No. 0581-0178, Vegetable Crops. It has been estimated it will take an average of 10 minutes for each of the approximately 8,000 almond growers to cast a ballot. Participation is voluntary. Ballots postmarked after August 16, 2019, will not be included in the vote tabulation.

Peter Sommers and Terry Vawter of the California Marketing Field Office, Specialty Crops Program, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR part 900.400 et seq.).

Ballots will be mailed to all growers of record and may also be obtained from the referendum agents or from their appointees.

List of Subjects in 7 CFR Part 981

Almonds, Marketing agreements, Nuts, and Reporting and recordkeeping requirements.

Authority: 7 U.S.C. 601-674.

Dated: July 11, 2019.
Bruce Summers,
Administrator, Agricultural Marketing Service.

[FR Doc. 2019-15059 Filed 7-15-19; 8:45 am]

BILLING CODE 3410-02-P